FEDERAL COMMUNICATIONS COMMISSION

47 CFR Part 11

[ET Docket No. 04-296; FCC 16-32]

Amendment of the Emergency Alert System; Independent Spanish Broadcasters Association, the Office of Communication of the United Church of Christ, Inc., and the Minority Media and Telecommunications Council, Petition for Immediate Relief

AGENCY: Federal Communications Commission.

ACTION: Final rule; announcement of effective date.

SUMMARY: In this document, the Commission announces that the Office of Management and Budget (OMB) has approved, until Oct. 31, 2019, the information collection associated with the Commission's Order (Order) in ET Docket No. 04-296, FCC 16-32, adopted on March 23, 2016, and released on March 30, 2016, which, among other things, adopted new multilingual alerting reporting rules into its State Emergency Alert System (EAS) Plan reporting requirements. This document is consistent with the Order, which stated that the Commission would publish a document in the Federal Register announcing the effective date of those rules.

DATES: The amendments to 47 CFR 11.21 published at 81 FR 27342, May 6, 2016, are effective November 3, 2016.

FOR FURTHER INFORMATION CONTACT: Lisa Fowlkes, Deputy Bureau Chief, Public Safety and Homeland Security Bureau, at (202) 418-7452, or by email at Lisa.Fowlkes@fcc.gov.

SUPPLEMENTARY INFORMATION: This document announces that, on Oct 12, 2016, OMB approved, until Oct. 31, 2019, the information collection requirements associated with the multilingual reporting requirements adopted in on rules contained in the Commission's Order, FCC 16-32, published at 81 FR 27342, May 6, 2016. The OMB Control Number is 3060-0207. The Commission publishes this document as an announcement of the effective date of the rules. If you have any comments on the burden estimates listed below, or how the Commission can improve the collections and reduce any burdens caused thereby, please contact Nicole Ongele, Federal Communications Commission, Room 1-A620, 445 12th Street SW., Washington, DC 20554. Please include the OMB Control Number, 3060-0207, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on October 12, 2016, for the information collection requirements contained in the modifications to the Commission's rules in 47 CFR part 11. Under 5 CFR part 1320, an agency may not conduct or sponsor a collection of information unless it displays a current, valid OMB Control Number.

No person shall be subject to any penalty for failing to comply with a collection of information subject to the Paperwork Reduction Act that does not display a current, valid OMB Control Number. The OMB Control Number is 3060-0207.

The foregoing notice is required by the Paperwork Reduction Act of 1995, Public Law 104-13, October 1, 1995, and 44 U.S.C. 3507.

The total annual reporting burdens and costs for the respondents are as follows:

OMB Control Number: 3060-0207.

OMB Approval Date: October 12, 2016.

OMB Expiration Date: October 31, 2019.

Title: Part 11, Emergency Alert System.

Form Number: N/A.

Respondents: Business and not-for-profit entities.

Number of Respondents and Responses: 63,080 respondents; 3,596,546 responses.

Estimated Time per Response: 1 hour (EAS Participants); 20 hours (SECCs).

Frequency of Response: One-time, and on-occasion reporting requirements.

Obligation to Respond: Required if distributing State and local EAS alerts in a given state. The statutory authority for this information collection is contained in sections 1, 2, 4(i), 4(o), 301, 303(r), 303(v), 307, 309, 335, 403, 624(g),706, and 715 of the Communications Act of 1934, as amended, 47 U.S.C. 151, 152, 154(i), 154(o), 301, 303(r), 303(v), 307, 309, 335, 403, 544(g), 606, and 615.

Total Annual Burden: 110,476 hours.

Total Annual Cost: None.

Nature and Extent of Confidentiality: An assurance of confidentiality is not offered because this information collection does not require the collection of personally identifiable information (PII) from individuals.

Privacy Act: No impact(s).

Needs and Uses: Section 11.21 of the Commission's part 11 (EAS) rules, 47 CFR 11.21, requires that State Emergency Communications Committees (SECC) prepare and submit State EAS Plans to the FCC for approval before State and local EAS alerts may be distributed within the state. On March 30, 2016, the Commission released the Order, FCC 16-32, published at 81 FR 27342, May 6, 2016, adopting rule amendments to section 11.21, 47 CFR 11.21—containing information collection requirements—designed to promote and better understand the landscape of multilingual alerting across the country. The rule amendments generally require EAS Participants (the broadcasters, cable systems, and other service providers subject to the EAS rules) to prepare and submit to their respective SECCs, a description of their efforts and activities to make available EAS alert message content to persons who communicate in languages other than English. SECCs are required to prepare a summary of such descriptions they receive and include such summary in the State EAS Plan they administer.

Federal Communications Commission.
Marlene H. Dortch,
Secretary.

[FR Doc. 2016-26555 Filed 11-2-16; 8:45 am]

BILLING CODE 6712-01-P